DEPARTMENT OF COMMERCE

International Trade Administration

[A-357-812]

Honey From Argentina: Extension of Time Limit for Preliminary Results of Administrative Review

AGENCY: Import Administration, International Trade Administration, Department of Commerce.

SUMMARY: The Department of Commerce (the Department) is extending the time limit for the preliminary results of the 2002-2003 administrative review of the antidumping duty order on honey from Argentina. This review covers seven exporters of the subject merchandise to the United States and the period December 1, 2002, through November 30, 2003.

EFFECTIVE DATE: August 11, 2004.

FOR FURTHER INFORMATION CONTACT: David Cordell at (202) 482-0408 or Robert James at (202) 482-0649, Antidumping and Countervailing Duty Enforcement, Office 6, Import Administration, International Trade Administration, U.S. Department of Commerce, 14th Street and Constitution Avenue NW., Washington, DC 20230.

SUPPLEMENTARY INFORMATION:

Background

On December 31, 2003, the American Honey Producers Association and the Sioux Honey Association (collectively petitioners) requested an administrative review of the antidumping duty order on honey from Argentina in response to the Department's notice of opportunity to request a review published in the Federal Register. See Antidumping or Countervailing Duty Order, Finding, or Suspended Investigation: Opportunity to Request Administrative Review, 68 FR 67401 (December 2, 2003). The petitioners requested that the Department conduct an administrative review of entries of subject merchandise made by thirteen Argentine producers/exporters. In addition, the Department received requests for reviews from six of the Argentine exporters included in the petitioners' request. Prior to the Department's initiation of review, on January 15, 2004, the petitioners filed a withdrawal of request for review of the following four companies: ConAgra Argentina S.A., Establecimiento Don Angel S.r.L., Food Way S.A., and Mielar, S.A. The Department initiated the review on the remaining nine exporters. See Initiation of Antidumping and Countervailing Duty Administrative Reviews and Request for Revocation in Part, 69 FR 3117 (January 22, 2004).

On February 18, 2004, petitioners submitted a withdrawal of request for review of Compania Europea Americana, S.A. and Radix S.r.L. Because the petitioners were the only party to request the administrative review of the above listed companies, the Department accepted the withdrawal request and rescinded the review with respect to these two companies. See Honey from Argentina: Notice of Partial Rescission of Antidumping Duty Administrative Review, 69 FR 12121 (March 15, 2004).

Notice of Extension

Pursuant to the time limits for administrative reviews set forth in section 751(a)(3)(A) of the Tariff Act of 1930, as amended (the Act), the current deadlines are September 1, 2004, for the preliminary results and December 30, 2004, for the final results of this administrative review. The Department, however, may extend the deadline for completion of the preliminary results of a review if it determines it is not practicable to complete the preliminary results within the statutory time limit. See 751(a)(3)(A) of the Act and § 351.213(h)(2) of the Department's regulations. In this case the Department has determined it is not practicable to complete this review within the statutory time limit because of significant issues which require additional time to evaluate. These include potential sales below cost, the collection of cost data, and questions concerning the particular market situation which required one of the companies to provide an additional Section B questionnaire response.

Therefore, the Department is extending the time limit for completion of the preliminary results until December 20, 2004, in accordance with section 751(a)(3)(A) of the Act. The deadline for the final results of this review will continue to be 120 days after publication of the preliminary results.

Dated: August 5, 2004.
Jeffrey May,
Deputy Assistant Secretary for Import Administration, Group I.

[FR Doc. 04-18394 Filed 8-10-04; 8:45 am]

BILLING CODE 3510-DS-P